DEPARTMENT OF TRANSPORTATION

Federal Transit Administration

Section 5307 Urbanized Area Formula Grants; Passenger Ferry Grant Program

AGENCY: Federal Transit Administration (FTA), DOT.

ACTION: Notice of Funding Availability (NOFA): Solicitation of Project Proposals for the Passenger Ferry Grant Program.

SUMMARY: The Federal Transit Administration (FTA) announces the availability of Section 5307 Urbanized Area Formula Grant program funds in support of the Discretionary Passenger Ferry Grant program. This grant opportunity will be funded using approximately $20 million in FY 2015 Urbanized Area Formula Grants program funds authorized by the Moving Ahead for Progress in the 21st Century Act (MAP-21), Public Law 112-141, July 6, 2012. Although MAP-21 authorized the program at $30 million, the current extension only authorized funds through May 31, 2015, which is approximately $20 million. This notice solicits proposals to compete for Fiscal Year (FY) 2015 funding that is currently available under the Ferry program and may include additional funds made available, subsequent to publication of this notice.

The Passenger Ferry Grant program (Ferry program), authorized by 49 U.S.C. 5307 (h), is a competitive program for which FTA established criteria for rating and ranking applications. Given the limited resources available for this program, FTA is limiting this discretionary opportunity to capital projects. These funds constitute a core investment in the enhancement and revitalization of public ferry systems in the Nation's urbanized areas.

This notice also includes priorities established by FTA for these discretionary funds, criteria FTA will use to identify meritorious projects for funding, and the process to apply for funding. This announcement is available on the FTA Web site at: http://www.fta.dot.gov. The FTA may announce final selections on the Web site and in the Federal Register. Additionally, a synopsis of this funding opportunity will be posted in the FIND module of the government-wide electronic grants (GRANTS.GOV) Web site at http://www.grants.gov.

DATES: Complete proposals for Ferry program projects must be submitted by 11:59 p.m. EDT on October 2, 2015. All proposals must be submitted electronically through the GRANTS.GOV APPLY function. Any agency intending to apply should initiate the process of registering on the GRANTS.GOV site immediately to ensure completion of registration before the submission deadline. Instructions for applying can be found on FTA's Web site at http://www.fta.dot.gov/grants/15926.html and in the “FIND” module of GRANTS.GOV.

FOR FURTHER INFORMATION CONTACT: Contact the appropriate FTA Regional Office found at http://www.fta.dot.gov for proposal-specific information and issues. For program-specific questions, please contact Vanessa Williams, Office of Program Management, (202) 366-4818, email: Vanessa.williams@dot.gov. A TDD is available at 1-800-877-8339 (TDD/FIRS).

SUPPLEMENTARY INFORMATION:

Table of Contents

A. FTA Ferry Program Authority

B. Program Description and Purpose

C. Program Information

1. Eligible Proposers

2. Eligible Projects

3. Cost Sharing and Matching

4. Eligible Sources of Match

D. Proposal Submission Process

E. Proposal Content

F. Evaluation Criteria

G. Review and Selection Process

H. Award Information

I. Award Administration

J. Technical Assistance and Other Program Information

Appendix A: Frequently Asked Questions

A. FTA Ferry Program Authority

Section 5307(h) of Title 49, United States Code, as amended by MAP-21, authorizes FTA's Passenger Ferry Grant program. The program authorizes FTA to solicit grant applications and make grants for eligible projects on a competitive basis subject to the Section 5307 terms and conditions, unless noted otherwise in the competitive solicitation. Successful applicants will enter into grant agreements with the FTA for the funding to be provided to their projects under this program.

B. Program Description and Purpose

Improving and maintaining the Nation's public ferry systems is a key strategic goal of the U.S. Department of Transportation (DOT) and FTA. The Ferry program is intended to contribute to the improvement of the condition of the public ferry systems by providing financial assistance for capital projects. As part of the program and as evidenced in the criteria established for the program, priority consideration will be given to eligible projects that help to expand ladders of opportunity and improve safety. Examples include but are not limited to enhancing access to work, educational, and other training opportunities, and supporting partnerships that expand access to other governmental, health, medical, education, social, human service, and transportation providers to improve coordinated delivery of services. Safety enhancements include projects that increase the safety of the system including but not limited to lifesaving devices, security cameras, and first aid kits.

C. Program Information

1. Eligible Proposers

Eligible proposers and eventual grant applicants under this initiative must be designated recipients or eligible direct recipients of Section 5307 funds which include public entities engaged in providing a public transportation passenger ferry service. If the recipient is eligible to receive 5307 funds, but does not currently have an active grant with FTA, upon selection, the recipient will be required to work with the FTA regional office to establish its organization as an active grantee. This process may require additional documentation to support technical, financial, and legal capacity. Ferry systems that accommodate cars must also accommodate walk-on passengers in order to be eligible for funding.

2. Eligible Projects

Under this competitive program, eligible projects are capital projects including ferries, terminals, and related infrastructure. A service area can include some portions of rural areas, as long as the Ferry service begins in and services urban areas. Capital projects include, but are not limited to, the purchase, replacement, or rehabilitation of ferries and terminals and related equipment. Funds made available under this Notice of Funding Availability (NOFA) may not be used to fund operating expenses, planning, or preventive maintenance. The FTA's Section 5307 formula funds may be used for those activities.

3. Cost Sharing and Matching

Costs will be shared at the following ratio:

There is an 80 percent Federal share for projects selected under the Ferry Program, unless noted below by one of the exceptions.

i. The Federal share is 85 percent for net project costs for acquiring vehicles (including clean-fuel or alternative fuel) that are compliant with the Clean Air Act (CAA) or compliant with the Americans with Disabilities Act (ADA) of 1990.

ii. The Federal share is 90 percent for net project costs for vehicle-related equipment or facilities (including clean-fuel or alternative-fuel vehicle-related equipment or facilities) required by the Americans with Disabilities Act (ADA) of 1990, or for purposes of complying with or maintaining compliance with the Clean Air Act.

The FTA considers vehicle-related equipment to be equipment on or attached to the vehicle. The award recipient may itemize the cost of specific, discrete, vehicle-related equipment being purchased to be in compliance with ADA or CAA.

4. Eligible Sources of Match

After the appropriate Federal share is established, the applicant must provide the local share of the net project cost and must document in its grant application the source of the local match. The local match may include:

i. Cash from non-governmental sources other than revenues from providing public transportation services;

ii. Non-farebox revenues from the operation of public transportation service, such as the sale of advertising and concession revenues. A voluntary or mandatory fee that a college, university, or similar institution imposes on all its students for free or discounted transit service that is not farebox revenue;

iii. Monies received under a service agreement with a State or local social service agency or private social service organization;

iv. Undistributed cash surpluses, replacement or depreciation cash funds, reserves available in cash, or new capital;

v. Amounts appropriated or otherwise made available to a department or agency of the Government (other than the U.S. Department of Transportation);

vi. In-kind contribution such as the market value of in-kind contributions integral to the project may be counted as a contribution toward local share;

vii. Revenue bond proceeds for a capital project, with prior FTA approval; and

viii. Transportation Development Credits (TDC) (formerly referred to as Toll Revenue Credits).

Note: FTA will not retroactively approve TDCs as match if they are not included in the proposal submitted under this competition.

D. Proposal Submission Process

Project proposals must be submitted electronically through http://www.GRANTS.GOV by 11:59 p.m. on October 2, 2015. Mail and fax submissions will not be accepted. A complete proposal submission will consist of at least two files: (1) The SF 424 Mandatory form (downloaded from GRANTS.GOV) and (2) the Applicant and Proposal Profile supplemental form for the Passenger Ferry program (supplemental form) found on the FTA Web site at http://www.fta.dot.gov/grants/15926.html. The supplemental form provides guidance and a consistent format for proposers to respond to the criteria outlined in this NOFA. Once completed, the supplemental form must be placed in the attachments section of the SF 424 Mandatory form. Proposers must use the supplemental form designated for the Ferry program and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Complete instructions on the application process can be found at http://www.fta.dot.gov/grants/15926.html. Important: FTA urges proposers to submit their applications at least 72 hours prior to the due date to allow time to receive the validation messages and to correct any problems that may have caused a rejection notification. The FTA will not accept submissions after the stated submission deadline. GRANTS.GOV scheduled maintenance and outage times are announced on the GRANTS.GOV Web site at http://www.GRANTS.GOV. Deadlines will not be extended due to scheduled maintenance or outages.

FTA will not make a ferry discretionary grant award to an applicant until the applicant has complied with all applicable System for Award Management (SAM) requirements. If an applicant has not fully complied with the requirements by the submission deadline, the application will not be considered. To submit an application through Grants.gov, applicants must:

• Obtain unique entity identifier (e.g., provide its Data Universal Numbering System (DUNS) number in each application or proposal it submits to the agency; Unique entity identifier means the identifier required for SAM registration to uniquely identify business entities);

• Be registered in SAM at www.SAM.gov;

• Create a Grants.gov username and password; and

• The E-Business Point of Contact (POC) at your organization must respond to the registration email from Grants.gov and login at Grants.gov to authorize you as an Authorized Organization Representative (AOR). Please note that there can be more than one AOR for an organization.

For information and instructions on each of these processes, please see instructions at http://www.grants.gov/web/grants/applicants/applicant-faqs.html. If an applicant is selected for an award, the applicant will be required to maintain an active SAM registration with current information throughout the period of the award.

Proposers may submit one proposal for each project or one proposal containing multiple projects. Proposers submitting multiple projects in one proposal must be sure to clearly define each project by completing a supplemental form for each project. Supplemental forms must be added within the proposal by clicking the “add project” button in Section II of the supplemental form.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent. The following information MUST be included on the SF 424 and supplemental forms for all requests for Ferry program funding:

1. Name of applicant and, if applicable, the specific ferry agency submitting the application.

2. Unique entity identifier.

3. Contact information including: Contact name, title, address, congressional district, fax and phone number, and email address if available.

4. Description of public transportation services including areas currently served by the ferry system, if any.

5. Name of person(s) authorized to apply on behalf of the system (attach a signed transmittal letter) must accompany the proposal.

E. Proposal Content

For complete and up to date guidance on the project information and project evaluation criteria that must be documented, refer to the applicable program on the FTA Web site: http://www.fta.dot.gov/grants/15926.html. At a minimum, every proposal must:

1. Submit an SF 424 with the correct supplemental form attached.

2. State the project title and describe in the executive summary the project scope to be funded.

3. Address whether the project will need a Buy America waiver.

4. Choose the type of service provided, project type and fleet information.

5. Address each evaluation criterion separately, demonstrating how the project responds to each criterion.

6. Provide a line-item budget for the total project, with enough detail to indicate the various key components of the project. As FTA may elect to fund only part of some project proposals, the budget should provide for the minimum amount necessary to fund specific project components of independent utility.

7. Provide the Federal amount requested.

8. Document the matching funds, including amount and source of the match (may include local or private sector financial participation in the project).

9. Provide support documentation, including financial statements, bond-ratings, and documents supporting the commitment of non-federal funding to the project, or a timeframe upon which those commitments would be made.

10. Address whether other Federal funds have been sought for the project.

11. Provide a project timeline, including significant milestones such as the date anticipated to issue a request for proposals for the project components or contract for purchase of ferry(s), and actual or expected delivery date or notice of request for proposal and notice to proceed for capital replacement/rehabilitation projects.

12. Provide congressional district information for the project's place of performance.

F. Evaluation Criteria

The FTA will evaluate projects based on the proposals submitted according to the criteria outlined below. The FTA encourages each proposer to demonstrate the responsiveness of a project to all of the selection criteria with the most relevant information that the proposer can provide, regardless of whether such information has been specifically requested or identified in this notice. The FTA will assess the extent to which a project addresses the following criteria.

1. Demonstration of Need

The FTA will evaluate each project to determine its need for resources. In addition to the project-specific criteria below, FTA will evaluate the project's impact on service delivery and whether the project represents a one-time or periodic need that cannot reasonably be funded from FTA formula program allocations or State and/or local resources. Proposals should include information such as destinations and services not currently accessible by transit, needs for access to jobs, education, or health care, safety enhancements or special needs of seniors and individuals with disabilities, income-based community needs, or other mobility needs.

i. For vessel replacement or rehabilitation projects:

• The age of the asset to be replaced or rehabilitated by the proposed project, relative to its useful life.

• Condition and performance of the asset to be replaced by the proposed project, as ascertained through inspections or otherwise, if available.

ii. For infrastructure (facility) improvements or related-equipment acquisitions:

• The age of the facility or equipment to be rehabilitated or replaced relative to its useful life.

• The degree to which the proposed project will enable the agency to improve the maintenance and condition of the agency's fleet and/or other related ferry assets.

iii. For expansion requests (vessel or facility-related):

• The degree to which the proposed project addresses a current capacity constraint that is limiting the ability of the agency to provide reliable service, meet ridership demands, or maintain vessels and related-equipment.

2. Demonstration of Benefits

In this section, proposals should identify expected project benefits. Applicants should describe how the ferry project will provide greater access to employment opportunities, educational centers, healthcare, or other locations that profoundly impact ladders of opportunity and safety, as described in the program purpose above. Possible examples include increased or sustained ridership and daily trips, increased reliability of service, improved operations or maintenance capabilities, or more mobility options, intermodal connections, or economic benefits to the community. Benefits may be demonstrated quantifiably or qualitatively. Proposers should document, explain or show the benefits in whatever format is reasonable to present them.

3. Planning and Local/Regional Prioritization

In this section, the applicant should describe how the proposed project is consistent with planning documents and local priorities. This will involve assessing whether:

i. The project is consistent with the transit priorities identified in the long-range transportation plan and/or contingency/illustrative projects. Proposers should note if the project could not be included in the financially constrained Transportation Improvement Plan (TIP)/Statewide Transportation Improvement Program (STIP) due to lack of funding (if selected, the project must be in the federally approved STIP before grant award).

ii. Local support is demonstrated by letters of support from State Departments of Transportation, local transit agencies and other relevant stakeholders.

iii. In an area with both ferry and other public transit operators, the proposal demonstrates coordination with and support of other related projects within the proposer's Metropolitan Planning Organization (MPO) or the geographic region within which the proposed project will operate.

4. Project Readiness

In this section, the applicant should describe the extent to which the project is ready to be implemented. This will involve assessing whether:

i. The project is a Categorical Exclusion (CE) or if required environmental work has been initiated or completed for construction projects requiring an Environmental Assessment (EA) or Environmental Impact Statement (EIS).

ii. Project implementation plans are ready, including initial design of facility projects.

iii. The TIP/STIP can be amended (evidenced by MPO/State endorsement).

iv. Local match is available and the project can be implemented within 12 months from time of selection.

v. The project will require a Buy America waiver.

vi. The applicant demonstrates the ability to carry out the proposed project successfully.

5. Technical, Legal, and Financial Capacity To Implement the Particular Project Proposed

In this section, the applicant should address all of the following points:

i. The proposer has the technical capacity to administer the project.

ii. There are no outstanding legal, technical, or financial issues with the proposer that would make this a high-risk project to implement quickly.

iii. The proposer has good financial systems in place that meet generally acceptable accounting standards that can be audited and has identified the source of local match if selected (no deferred local share will be allowed).

6. Connectivity to Other Modes of Transportation

The proposals should include information about transfer connections to other modes of transportation, including but not limited to: Rail, bus, intercity bus, and private transportation providers. Supporting documentation should include data that demonstrates the number of trips (passengers and vehicles), the number of walk-on passengers, and transfers to other modes (if applicable).

G. Review and Selection Process

In addition to other FTA staff that may review the proposals, a technical evaluation committee will review proposals under the project evaluation criteria. Members of the technical evaluation committee and other involved FTA staff reserve the right to screen and rate the applications received and to seek clarification from any applicant about any statement in its application that FTA finds ambiguous and/or request additional documentation to be considered during the evaluation process to clarify information contained within the proposal.

After consideration of the findings of the technical evaluation committee, the FTA Acting Administrator will determine the final selection and amount of funding for each project.

Geographic diversity and the applicant's receipt of other Federal funding for ferries may be considered in FTA's award decisions.

H. Award Information

Ferry program funds are available to designated recipients or eligible direct recipients of Section 5307 funds. There is no minimum or maximum grant award amount; however, FTA intends to fund as many meritorious projects as possible. Only proposals from eligible recipients for eligible activities will be considered for funding. Due to funding limitations, proposers that are selected for funding may receive less than the amount originally requested. In those cases, applicants must be able to demonstrate that the proposed projects are still viable and can be completed with the amount awarded.

I. Award Administration

1. Award Notices

At the time the project selections are announced, FTA will extend pre-award authority for the selected projects. There is no blanket pre-award authority for these projects before announcement.

2. Administrative and National Policy Requirements

i. Pre-Award Authority

The FTA will issue specific guidance to recipients regarding pre-award authority at the time of selection. The FTA does not provide pre-award authority for discretionary funds until projects are selected and even then there are Federal requirements that must be met before costs are incurred. For more information about FTA's policy on pre-award authority, please see the FY 2015 Apportionment Notice published on February 9, 2015. http://www.gpo.gov/fdsys/pkg/FR-2015-02-09/pdf/2015-02555.pdf.

ii. Grant Requirements

If selected, awardees will apply for a grant through FTA's electronic grant management system and adhere to the customary FTA grant requirements of the Section 5307 Urbanized Area Formula Grant program, including those of FTA Circular 9030.1E, Circular 5010.1D, and the labor protections of 49 U.S.C. Section 5333(b). All discretionary grants, regardless of award amount, will be subject to the congressional notification and release process. The FTA emphasizes that third-party procurement applies to all funding awards, as described in FTA.C.4220.1F. Technical assistance regarding these requirements is available from each FTA regional office.

iii. Buy America

The FTA requires that all capital procurements meet FTA's Buy America requirements that require all iron, steel, or manufactured products be produced in the U.S., to help create and protect manufacturing jobs in the U.S. The Ferry program will have a significant economic impact toward meeting the objectives of the Buy America law. The Buy America requirements can be found in 49 CFR part 661. Any proposal that will require a waiver must identify the items for which a waiver will be sought in the application. Applicants should not proceed with the expectation that waivers will be granted.

iv. Disadvantaged Business Enterprise

Projects that include ferry acquisitions are subject to the Disadvantaged Business Enterprise (DBE) program regulations at 49 CFR part 26. The rule requires that, prior to bidding on any FTA-assisted vehicle procurement, entities that manufacture ferries must submit a DBE Program plan and annual goal methodology to FTA. The FTA will then issue a transit vehicle manufacturer (TVM) concurrence/certification letter. Grant recipients must verify each entity's compliance before accepting its bid. A list of certified TVMs is posted on FTA's Web page at http://www.fta.dot.gov/civilrights/12891.html. Recipients should contact FTA before accepting bids from entities not listed on this web-posting. Recipients may also establish project specific DBE goals for ferry purchases. The FTA will provide additional guidance as grants are awarded. For more information on DBE requirements, please contact Britney Berry, Office of Civil Rights, 202-366-1065, email: britney.berry@dot.gov.

v. Planning

The FTA encourages proposers to notify the appropriate State Departments of Transportation and MPOs in areas likely to be served by the project funds made available under these initiatives and programs. Selected projects must be incorporated into the long-range plans and transportation improvement programs of States and metropolitan areas before they are eligible for FTA funding.

vi. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

vii. Reporting

Post-award reporting requirements include submission of Federal Financial Reports and Milestone Reports in FTA's electronic grants management system on a quarterly basis for all projects.

J. Technical Assistance and Other Program Information

This program is not subject to Executive Order 12372, “Intergovernmental Review of Federal Programs.” The FTA will consider applications for funding only from eligible recipients for eligible projects listed in Section C. Complete applications must be submitted through GRANTS.GOV by 11:59 p.m. EDT on October 2, 2015. Contact information for FTA's regional offices can be found on FTA's Web site at www.fta.dot.gov.

Therese W. McMillan,
Acting Administrator.

Appendix A—Ferry Program Frequently Asked Questions

1. What is a designated recipient?

Answer: A designated recipient is an entity designated by the governor of a state, responsible local official, and publicly owned operators of public transportation to receive and apportion amounts under Section 5336 to urbanized areas of 200,000 or more in population, or a state or regional authority, if the authority is responsible under the laws of a state for a capital project and for financing and directly providing public transportation.

2. What is a direct recipient?

Answer: A direct recipient is an eligible entity authorized by a designated recipient or state to receive Urbanized Area Formula Program funds directly from FTA.

3. Is there a list of designated recipients under Section 5307?

Answer: Contact the FTA regional office for help with identifying the 5307 designated recipient in your area. The regional office contact information can be found at www.fta.dot.gov.

4. How can an entity determine whether it operates within the area of a Census-designated urbanized area?

Answer: Contact the FTA regional office to determine the designated urbanized area. The regional contact information can be found at www.fta.dot.gov.

5. Can I apply if I am not currently a direct recipient?

Answer: Yes, FTA will accept applications from entities in urbanized areas that are eligible to be direct recipients, even if they are currently not a direct recipient.

6. How can I apply if I am not an eligible direct recipient or designated recipient?

Answer: Coordinate the project with the designated or eligible direct recipient for that entity to apply on your behalf. However, if your project is selected for an award, the designated or eligible direct recipient would obligate the funds.

7. Can State DOTs apply on behalf of public agencies within the state in which they administer FTA funds?

Answer: Yes, as long as the service is within an urbanized area.

8. If an agency previously received 5307 funds but now receives 5311 funds, can they still apply?

Answer: No, Section 5311 rural providers are not eligible to apply for the Passenger Ferry Grant Program. Applicants must be eligible designated or direct recipients of Section 5307.

9. Is a new start eligible under the Ferry program?

Answer: Capital for new systems is eligible if the project is not in the planning phase. Planning activities are not eligible under this competition.

10. Are public car-ferries eligible?

Answer: Ferry systems that accommodate cars must also accommodate walk-on passengers in order to be eligible.

11. Is the construction of a ferry maintenance facility an eligible capital project?

Answer: Yes.

12. Is a new vessel construction funded by FTA grants considered a public work or rolling stock and therefore subject to Davis Bacon?

Answer: Yes, a new vessel construction is rolling stock. Davis Bacon applies to construction, alteration, or repairs of public buildings or public works, but it does not apply to rolling stock.

13. Does the term “terminals & related infrastructure” projects include the floating docks and access ramps where the passengers board?

Answer: Yes.

14. Is there a difference between the FTA's Passenger Ferry Grant Program and FHWA's Ferry Boat Formula Grant Funding Program?

Answer: There may be subtle differences between FTA's and FHWA's programs. However, FHWA no longer has a discretionary program. It is now a formula program. Please refer to FHWA's page for more information: http://www.fhwa.dot.gov/.

15. What is the grant process after an entity is selected?

Answer: An agency would work with the FTA regional office to apply for the funds in FTA's electronic management system. The Federal Register announcing selection will also provide grant-making instructions.

[FR Doc. 2015-18917 Filed 7-31-15; 8:45 am]

BILLING CODE P